DEPARTMENT OF JUSTICE

Notice of Lodging of Consent Decree Pursuant to the Clean Air Act

In accordance with Departmental policy and 28 C.F.R. 50.7, the Department of Justice gives notice that on April 3, 2000, a proposed Stipulation and Agreed Order Concerning Settlement was lodged with the United States District Court for the Eastern District of Michigan in the case captioned United States v. Libra Industries, Inc. of Michigan, Case No. 99-73771 (E.D. Mich.). The proposed Stipulation and Agreed Order addresses alleged violations of the Clean Air Act, 42 U.S.C. 7401 et seq., by Libra Industries, Inc. of Michigan (“Libra”) at its institutional dry cleaning facility in Jackson, Michigan, and would provide for dismissal of the claims asserted in the Complaint in the case on terms specified in the Stipulation and Agreed Order. The proposed Stipulation and Agreed Order would require Libra to pay the United States a $4,000 civil penalty.

The Department of Justice will receive, for a period of thirty (30) days from the date of the publication, comments relating to the proposed Stipulation and Agreed Order. Comments should be addressed to the Assistant Attorney General, Environment and Natural Resources Division, United States Department of Justice, P.O. Box 7611, Washington, DC 20044-7611, and should refer to United States v. Libra Industries, Inc. of Michigan, Case No. 99-73771 (E.D. Mich), and DOJ Reference No. 90-5-2-1-06355.

The proposed Stipulation and Agreed Order may be examined at: (1) the Office of the United States Attorney for the Eastern District of Michigan, 231 W. Lafayette Street, Detroit, MI 48226; and (2) the United States Environmental Protection Agency (Region 5), 77 West Jackson Boulevard, Chicago, Illinois 60604 (contact Larry Johnson (312-886-6609)). A copy of the proposed Stipulation and Agreed Order may also be obtained by mail from the Department of Justice Consent Decree Library, P.O. Box 7611, Washington, DC 20044-7611. In requesting copies, please refer to the referenced case and DOJ Reference Number, and enclose a check for $1.50 (6 pages at 25 cents per page reproduction costs), made payable to the Consent Decree Library.

Joel M. Gross,
Chief, Environmental Enforcement Section, Environment and Natural Resources Division.

[FR Doc. 00-9157 Filed 4-12-00; 8:45 am]

BILLING CODE 4410-15-M